DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 10, 2008.

Interested persons are invited to submit written comments regarding the subject matter of the investigations to the Director, Division of Trade Adjustment Assistance, at the address shown below, not later than January 10, 2008.

The petitions filed in this case are available for inspection at the Office of the Director, Division of Trade Adjustment Assistance, Employment and Training Administration, U.S. Department of Labor, Room C-5311, 200 Constitution Avenue, NW., Washington, DC 20210.

Signed at Washington, DC, this 18th day of December 2007.
Ralph DiBattista,
Director, Division of Trade Adjustment Assistance.

Appendix
[TAA petitions instituted between 12/11/07 and 12/14/07]
TA-W | Subject firm (petitioners) | Location | Date of institution | Date of petition
62547 | Lighting Products, Inc. (IUECWA) | Hubbard, OH | 12/11/07 | 12/06/07
62548 | Kaso Plastics (Wkrs) | Vancouver, WA | 12/11/07 | 12/03/07
62549 | Thermo Fisher Scientific (UBCJA) | Two Rivers, WI | 12/11/07 | 12/10/07
62550 | Nelson Staffing (State) | Redwood City, CA | 12/11/07 | 12/07/07
62551 | Lenovo (Wkrs) | Belleve, WA | 12/11/07 | 11/30/07
62552 | Hayes Lemmerz (State) | Ferndale, MI | 12/11/07 | 12/06/07
62553 | A.L.A Casting Company, Inc. (Wkrs) | Long Island City, NY | 12/11/07 | 11/27/07
62554 | MI Windows and Doors, Inc. (Comp) | Millen, GA | 12/11/07 | 12/10/07
62555 | Carson's Furniture (Wkrs) | Archdale, NC | 12/11/07 | 12/10/07
62556 | Magneti Marelli North America, Inc. (NA) (Comp) | Kingsport, TN | 12/12/07 | 12/11/07
62557 | Sports Belle, Inc. (Comp) | Knoxville, TN | 12/12/07 | 12/06/07
62558 | HSBC (State) | Fort Mill, SC | 12/12/07 | 12/11/07
62559 | Hyde Tools, Inc. (Comp) | Southbridge, MA | 12/12/07 | 12/10/07
62560 | Motorola, Inc. (State) | Schaumburg, IL | 12/12/07 | 12/10/07
62561 | B & G International, Inc. (State) | Newark, NJ | 12/12/07 | 12/10/07
62562 | Innovision Technologies, Inc. (State) | Novi, MI | 12/12/07 | 12/06/07
62563 | Graham Packaging Company, L.P. (Comp) | Oakdale, CA | 12/12/07 | 12/11/07
62564 | Holt Sublimation Printing and Products, Inc. (Comp) | Burlington, NC | 12/12/07 | 12/11/07
62565 | Glen Raven (Wkrs) | Elberton, GA | 12/12/07 | 12/05/07
62566 | WestPoint Home (Comp) | Valley, AL | 12/12/07 | 12/10/07
62567 | Alcatel-Lucent (Union) | North Andover, MA | 12/12/07 | 12/10/07
62568 | IBM (Wkrs) | Lexington, KY | 12/12/07 | 12/05/07
62569 | New York Air Brake (Comp) | Watertown, NY | 12/12/07 | 12/06/07
62570 | Umpqua Lumber Company (Comp) | Dillard, OR | 12/13/07 | 12/10/07
62571 | France Scott Fetzer Company (Wkrs) | Fairview, TN | 12/13/07 | 12/10/07
62572 | Ethicon, Johnson and Johnson (UFCWIU) | San Angelo, TX | 12/13/07 | 12/12/07
62573 | Lexmark International, Inc. (State) | Lexington, KY | 12/13/07 | 12/13/07
62574 | Molex, Inc. (State) | Maumelle, AR | 12/14/07 | 12/13/07
62575 | Norgren, Inc. (Comp) | Littleton, CO | 12/14/07 | 12/13/07
62576 | U.S. Pipe and Foundry (State) | Burlington, NJ | 12/14/07 | 12/13/07

[FR Doc. E7-25359 Filed 12-28-07; 8:45 am]

BILLING CODE 4510-FN-P